FEDERAL COMMUNICATIONS COMMISSION

Notice of Public Information Collection(s) Being Submitted to OMB for Review and Approval

November 27, 2002.

SUMMARY: The Federal Communications Commissions, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning: (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before January 13, 2003. If you anticipate that you will be submitting comments, but find it difficult to do so within the period of time allowed by this notice, you should advise the contact listed below as soon as possible.

ADDRESSES: Direct all comments to Les Smith, Federal Communications Commission, Room 1-A804, 445 12th Street, SW, Washington, DC 20554 or via the Internet to lesmith@fcc.gov.

FOR FURTHER INFORMATION CONTACT: For additional information or copies of the information collections contact Les Smith at (202) 418-0217 or via the Internet at lesmith@fcc.gov.

SUPPLEMENTARY INFORMATION:

OMB Control Number: 3060-1002.

Title: Cable Horizontal and Vertical Ownership Information Collection.

Form Number: N/A.

Type of Review: Revision of currently approved collection.

Respondents: Business or other for-profit entities.

Number of Respondents: 146.

Estimated Time per Response: 30 mins. (0.5 hrs.).

Frequency of Response: One-time reporting requirement.

Total Annual Burden: 162 hours.

Total Annual Costs: None.

Needs and Uses: Under Section 613(f) of the Communications Act of 1934, as amended by the Cable Television Consumer Protection and Competition Act of 1992, the FCC is directed to establish reasonable limits on the number of subscribers that may be reached through cable operators' owned or affiliated cable systems and on the number of channels that can be occupied by cable operators' owned or affiliated programming networks. This information collection will assist the Commission in its rulemaking proceeding revising these rules consistent with a court remand and reversal of previous rules.

OMB Control Number: 3060-0863.

Title: Satellite Delivery of Network Signals to Unserved Households for Purposes of the Satellite Home Viewer Act (SHVA).

Form Number: N/A.

Type of Review: Revision of a currently approved collection.

Respondents: Business or other for profit entities.

Number of Respondents: 848.

Estimated Time per Response: 30 minutes (0.5 hrs.).

Frequency of Response: Recordkeeping; On occasion reporting requirements; Third party disclosure.

Total Annual Burden: 125,000 hours.

Total Annual Costs: None.

Needs and Uses: In February 1999, the FCC released a Report and Order (R&O), FCC 99-14, that described a method for measuring the Grade B signal strength at a household so that the satellite and broadcast industries and consumers would have a uniform method for calibrating actual household signal strength and thereby determine which consumers are “unserved” by over-the-air network signals. The written records of test results are made after testing and predicting the strength of a television station's signal. The R&O also endorsed a computer model to predict whether a household is likely to be able to receive a signal of the required strength. In May 2000, the FCC released a First Report and Order (First R&O), FCC 00-185, that prescribed an improved point-to-point predictive model (Individual Location Longley-Rice (ILLR)), which provides a reliable and presumptive means for determining whether the over-the-air signal of a network affiliated television station can be received at an individual location. The model can be refined when additional data become available. Furthermore, the ILLR model significantly reduces the number of measurements conducted at individual households, thereby slowly negating the need for the rules mentioned in OMB's Terms of Clearance. In prescribing the ILLR model, the Commission is complying with new statutory requirements set forth in the Satellite Home Viewer Improvement Act of 1999 (SHVIA).

Federal Communications Commission.
Marlene H. Dortch,
Secretary.

[FR Doc. 02-31311 Filed 12-11-02; 8:45 am]

BILLING CODE 6712-01-P